DEPARTMENT OF AGRICULTURE

Forest Service

Idaho (Boise, Caribou-Targhee, Salmon-Challis, and Sawtooth National Forests and Curlew National Grassland); Nevada (Humboldt-Toiyabe National Forest); Utah (Ashley, Dixie, Fishlake, Manti-La Sal, and Uinta-Wasatch-Cache National Forests); Wyoming (Bridger-Teton National Forest); and Wyoming/Colorado (Medicine Bow-Routt National Forest and Thunder Basin National Grassland) Amendments to Land Management Plans for Greater Sage-Grouse Conservation

AGENCY: Forest Service, USDA.

ACTION: Supplemental Notice of Intent To Prepare an Environmental Impact Statement; Notice of Updated Information Concerning the Forest Service Greater Sage-Grouse Land and Resource Management Plan Amendments

SUMMARY: This supplemental notice solicits public comments on a greater sage-grouse land management proposed action that could warrant land management plan amendments. Land management plans for National Forests and Grasslands in Idaho, Montana, Nevada, Utah, Colorado and Wyoming were amended in September 2015 to incorporate conservation measures to support the continued existence of the greater sage-grouse. Since the plans were amended in 2015, scoping on specific issues was requested in a Notice of Intent (NOI) published in the Federal Register on November 21, 2017 (82 FR 55346). This supplemental NOI continues the scoping effort by seeking comments about a proposed action to make further amendments to the plans. This supplemental NOI also identifies the planning rule provisions likely to be directly related, and so applicable, to proposed plan amendments.

DATES: Comments concerning the scope of the analysis must be received by July 20, 2018.

ADDRESSES: Please submit comments via one of the following methods:

1. Public participation portal (preferred): https://cara.ecosystem-management.org/Public/CommentInput?project=52904.

2. Mail: Sage-grouse Amendment Comment, USDA Forest Service Intermountain Region, Federal Building, 324 25th Street, Ogden, UT 84401.

3. Email: comments-intermtn-regional-office@fs.fed.us.

4. Facsimile: 801-625-5277.

All comments, including names and addresses when provided, are placed in the record and are available for public inspection and copying. The public may inspect comments received online via the public reading room at: https://cara.ecosystem-management.org/Public/ReadingRoom?project=52904.

FOR FURTHER INFORMATION CONTACT: John Shivik at 801-625-5667 or email johnashivik@fs.fed.us. Individuals who use telecommunication devices for the deaf (TDD) may call the Federal Information Relay Service (FIRS) at 1-800-877-8339 between 8:00 a.m. and 8:00 p.m., Eastern Time, Monday through Friday.

SUPPLEMENTARY INFORMATION: The Forest Service is proposing to amend the Forest Service land management plans that were amended in 2015 regarding greater sage-grouse conservation in the states of Colorado, Idaho, Nevada, Wyoming, Utah and Montana (2015 Greater Sage-Grouse Plans). This notice clarifies the purpose and need, proposed action, and the responsible officials, which were not identified in the scoping on specific issues that were requested in a Notice of Intent published in the Federal Register on November 21, 2017 (2017 NOI). The Forest Service is proposing amendments to land management plans that were amended in 2015.

We hereby give notice that substantive requirements of the 2012 Planning Rule (36 CFR 219) that are likely to be directly related, and therefore applicable, to the amendments are in sections 219.8 (a) and (b) (ecological and social and economic sustainability), 219.9 (diversity of plant and animal communities), and 219.10(a) (integrated resource management for ecosystem services and multiple use).

Preliminary Issues

In the 2017 NOI, the Forest Service requested public input on the 2015 Greater Sage-grouse plan amendments. A summary of comments can be found here on the Intermountain Region home page: https://www.fs.usda.gov/detail/r4/home/?cid=stelprd3843381. Public input helped the Forest Service to identify preliminary issues which led to the development of a purpose and need and proposed action for benefiting sage-grouse on the landscape scale. The topics identified during that scoping process were: Adaptive management, allowable land uses, disturbance caps, the Endangered Species Act, fire management and invasive species, habitat mapping, habitat objectives, lek buffers, livestock grazing, mitigation, noise limitations, population management, predation, required design features, role of science, sagebrush focal areas, socioeconomics, and wild horses and burros.

Purpose and Need

The Forest Service published the 2017 NOI to consider the possibility of amending land management plans for greater sage-grouse that were originally amended in 2015 in the states of Colorado, Idaho, Nevada, Wyoming, Utah and Montana (2015 Sage-Grouse Plan Amendments). The need for further plan amendments is that the Forest Service has gained new information and understanding from the 55,000 comments received as a result of the 2017 NOI, within-agency scoping, and from coordination with the Sage Grouse Task Force (with members from state agencies, Bureau of Land Management, Fish and Wildlife Service and the Natural Resources Conservation Service). The purpose of the proposed action is to incorporate new information to improve the clarity, efficiency, and implementation of greater sage-grouse plans, including better alignment with the Bureau of Land Management (BLM) and state plans, in order to benefit greater sage-grouse conservation on the landscape scale.

Proposed Action

The scope and scale of the proposed action is on 6.1 million acres of greater sage-grouse habitat on National Forest System lands in the Intermountain, Northern, and Rocky Mountain Regions. Specific textual adjustments currently under consideration can be found on the Intermountain Region home page: https://www.fs.usda.gov/detail/r4/home/?cid=stelprd3843381.

In summary, proposed actions are:

(1) In order to streamline plans in accordance with BLM and Forest Service (FS) policy, the subset of priority habitat management areas designated as sagebrush focal areas will be eliminated, as will the use of mineral withdrawals in FS plans, in accordance with the limits of FS authority.

(2) Text will be edited to correct minor clerical errors, for clarity, and to reduce redundancy within the plan and as related to national policy.

(3) In order to clarify plan direction, when restrictions on minerals developments are required, specific requirements (i.e., stipulations) on habitat disturbing activities will be inserted.

(4) In order to streamline the plans in accordance with FS and BLM policy, where exceptions to restrictions on minerals development are allowed, the details, requirements, and process of making the exceptions will be revised.

(5) Updated information will be incorporated to revise mapped habitat management areas, and the purpose and use of habitat management area maps will be clarified.

(6) Livestock management guidelines will be revised to remove restrictions on water development and to replace specific grass-height requirements with standardized use of the habitat assessment framework in order to better reflect current research and to align local management with local habitat conditions.

(7) Because invasive plants are a primary threat to the sagebrush ecosystem and greater sage-grouse, invasive plant management will be further emphasized by adding a plan component that stresses treatment of invasive plants in priority habitat management areas.

(8) In order to promote landscape-scale effectiveness, text within the adaptive management framework will be revised to align the FS framework with BLM and state-based adaptive management systems.

(9) Plan components will be altered to focus protections for greater sage-grouse in priority habitat management areas in order to better incentivize habitat disturbance to areas outside of priority habitat management areas.

(10) Text within the compensatory mitigation framework, including the use of no net loss or net conservation gain elements, will be revised in order to promote landscape-scale effectiveness by aligning the FS framework with BLM and state-based compensatory mitigation systems.

Scoping Process

The Forest Service is proposing amendments to 20 land management plans to change some of the plan components added to those plans in 2015. Public involvement is important for adding meaningful participation from the early phases of planning through finalization of the plan amendments and subsequent monitoring. A public participation strategy has been designed to assist with communication within the Forest Service and between the Forest Service and the public. Find the strategy here: https://www.fs.usda.gov/detail/r4/home/?cid=stelprd3843381.

Lead and Cooperating Agencies

If any further analysis and associated decision documents for the Forest Service plan amendments are completed, then the Forest Service will be the lead agency. Other federal, State, and local agencies, along with tribes and other stakeholders that may be interested in or affected by the proposed action are invited to participate in the scoping process. If eligible, they may request or be asked by the Forest Service to participate in the development of the environmental analysis as a cooperating agency. The Forest Service will consult with Indian tribes on a government-to-government basis in accordance with Executive Order 13175 and other policies.

Responsible Officials

The responsible officials who would approve plan amendments are the Regional Foresters for the Intermountain, Rocky Mountain, and Northern Regions.

Request for Comment

The public is encouraged to comment on the proposed action in this notice. The Forest Service will use an interdisciplinary approach as it considers the variety of resource issues and concerns.

Comments received in response to this solicitation, including names and addresses of those who comment, will be part of the public record for this proposed action. Comments submitted anonymously will be accepted and considered; however, anonymous comments will not provide the Agency with the ability to provide the respondent with subsequent environmental documents.

Dated: June 12, 2018.
Glen Casamassa,
Associate Deputy Chief, National Forest System.

[FR Doc. 2018-13260 Filed 6-19-18; 8:45 am]

BILLING CODE 3411-15-P